DEPARTMENT OF THE INTERIOR

Bureau of Land Management

[WY-957-02-1910-BJ-4467]

Notice of Filing of Plats of Survey; Wyoming

AGENCY: Bureau of Land Management, Interior.

ACTION: Notice of filing of plats of survey, Wyoming.

SUMMARY: The Bureau of Land Management (BLM) is scheduled to file the plats of survey of the following described lands, thirty (30) calendar days from the date of this publication in the BLM Wyoming State Office, Cheyenne, Wyoming.

FOR FURTHER INFORMATION CONTACT: Bureau of Land Management, 5353 Yellowstone Road, PO Box 1828, Cheyenne, Wyoming 82003.

SUPPLEMENTARY INFORMATION: These surveys were executed at the request of the Bureau of Indian Affairs, and are necessary for the management of tribal lands. The lands surveyed are:

The plat representing the dependent resurvey of a portion of the subdivisional lines and subdivision of section lines, and the subdivision of section 19, Township 1 North, Range 4 East, Wind River Meridian, Wyoming, was accepted December 31, 2002.

Copies of the preceding described plats are available to the public.

Dated: January 6, 2003.
John P. Lee,
Chief Cadastral Surveyor, Division of Support Services.

[FR Doc. 03-641 Filed 1-10-03; 8:45 am]

BILLING CODE 4310-22-P